SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. The information collection packages included in this notice are for new information collections, approval of existing information collections, revisions to OMB-approved information collections and extensions (no change) of OMB-approved information collections.

SSA is soliciting comments on the accuracy of the Agency's burden estimate; the need for the information; its practical utility; ways to enhance its quality, utility and clarity; and ways to minimize the burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

The information collections listed below have been submitted to OMB for clearance. Your comments on the information collections would be most useful if OMB and SSA receive them within 30 days from the date of this publication. You can obtain a copy of the OMB clearance packages by calling the SSA Reports Clearance Officer at 410-965-0454, or by writing to the address listed above.

1. Agreement to Sell Property—20 CFR 416.1240-1245—0960-0127. Individuals or couples who are otherwise eligible for Supplemental Security Income (SSI) benefits but whose resources exceed the allowable limit may receive conditional payments if they agree to dispose of the excess non-liquid resources and make repayment. SSA uses form SSA-8060 to document this agreement and to ensure the individuals understand their obligations. Respondents are applicants for and recipients of SSI benefits who will be disposing of excess non-liquid resources.

Type of Request: Extension of an OMB-approved information collection.

Number of Respondents: 20,000.

Frequency of Response: 1.

Average Burden per Response: 10 minutes.

Estimated Annual Burden: 3,333 hours.

2. Listing of Impairments—Part 404, Subpart P, Appendix I and II—0960-0642.

Background

The Listing of Impairments (the listings), Part 404, Subpart P, Appendix I and II, describes, for each of the major body systems, impairments which are severe enough to prevent a person from doing any gainful activity. As part of the listings, we provide a preface identifying specific requirements which affect the body system, such as documentation requirements and other factors to consider when evaluating impairments within that body system, including medical and other evidence. This clearance request covers Appendix 1 to Subpart P of part 404.

The Information Collection

State Disability Determination Services (DDS) use the documented medical evidence described in the listings to assess the alleged disability. DDS use this information, together with other evidence, to determine if an individual claiming disability benefits has an impairment that meets severity and duration requirements. The respondents are disability applicants and other sources of evidence. The Information Collection Requests for the various forms the public uses to submit medical and other evidence to SSA includes the burden imposed by these regulations. We are reporting no burden for this regulation aside from a 1-hour placeholder burden.

Type of Request: Extension of an OMB-approved information collection.

3. Reporting Events-SSI—20 CFR 416.701-.732—0960-0128. SSI applicants, recipients, and/or their representative payees must report any changed circumstances that could affect their eligibility for SSI payments or the payment amount. SSA uses the information, reported on Form SSA-8150, to determine if SSI benefits should continue or if the payment amount should be changed. The respondents are applicants for or recipients of SSI benefits or their representative payees.

Type of Request: Extension of an OMB-approved information collection.

Number of Respondents: 27,320.

Frequency of Response: 1.

Average Burden per Response: 5 minutes.

Estimated Annual Burden: 2,277 hours.

4. Application for a Social Security Card—20 CFR 422.103-.110—0960-0066. SSA collects information on Forms SS-5 (used in the United States) and SS-5-FS (used outside the United States) to issue original or replacement Social Security cards. SSA is revising the race/ethnicity question on the forms to comply with Office of Management and Budget standards. Additionally, SSA is making several other minor changes to the form's instructions. The respondents are applicants for original and replacement Social Security cards.

Type of Request: Revision to an OMB approved information collection.

Application scenario | Number of annual respondents | Completion time (minutes) | Burden hours
Respondents who do not have to provide parents' social security numbers (SSNs) | 13,000,000 | 8½ | 1,841,667
Respondents who are asked to provide parents' SSNs (for application for original SSN cards for children under age 18) | 540,000 | 9 | 81,000
Applicants age 12 or older who need to answer additional questions so SSA can determine whether an SSN was previously assigned | 40,000 | 9½ | 6,333
Applicants asking for a replacement SSN card beyond the new allowable limits (i.e., who must provide additional documentation to accompany the application) | 4,000 | 60 | 4,000
Totals | 13,584,000 |  | 1,933,000

Dated: February 25, 2008.
Elizabeth A. Davidson,
Reports Clearance Officer, Social Security Administration.

[FR Doc. E8-3871 Filed 2-28-08; 8:45 am]

BILLING CODE 4191-02-P